DEPARTMENT OF TRANSPORTATION

Federal Railroad Administration

[Docket No. FRA-2001-11213, Notice No. 28]

Drug and Alcohol Testing: Determination of Minimum Random Testing Rates for 2024

AGENCY: Federal Railroad Administration (FRA), Department of Transportation (DOT).

ACTION: Notification of determination.

SUMMARY: This notification of determination announces FRA's minimum annual random drug and minimum annual random alcohol testing rates for covered service, maintenance-of-way (MOW), and mechanical (MECH) employees for calendar year 2024.

DATES: This determination takes effect December 22, 2023.

FOR FURTHER INFORMATION CONTACT: Gerald Powers, FRA Drug and Alcohol Program Manager, by email: gerald.powers@dot.gov or by telephone: 202-493-6313; or Melissa Van Dermeir, FRA Drug and Alcohol Program Specialist, by email: melissa.vandermeir@dot.gov or by telephone: 312-720-9491.

SUPPLEMENTARY INFORMATION: Each year, FRA sets its minimum annual random testing rates after considering the last two complete calendar years of railroad industry drug and alcohol program data submitted to DOT's Management Information System (MIS) for DOT drug and alcohol testing results. FRA, however, reserves the right to consider factors in addition to MIS-reported data before deciding whether to lower annual minimum random testing rates. See 85 FR 81265 (Dec. 15, 2020).

To summarize, FRA is announcing that its minimum annual random drug and alcohol testing rates for the period between January 1, 2024, through December 31, 3024 (Calendar Year 2024) will continue to be as follows:

Covered service employees—25 percent for drugs and 10 percent for alcohol.

MOW employees—25 percent for drugs and 10 percent for alcohol.

MECH employees—50 percent for drugs and 25 percent for alcohol.

These rates are minimums, and railroads and railroad contractors may conduct random testing at higher rates than those required by this notification of determination.

Discussion

Random Testing Rates for Covered Service Employees

The rail industry's random drug testing positive rate for covered service employees remained below 1.0 percent for 2021 and 2022. The Administrator has therefore determined the minimum annual random drug testing rate for covered service employees will remain at 25 percent for Calendar Year 2024. The industry-wide random alcohol testing violation rate for covered service employees remained below .5 percent for 2021 and 2022. The Administrator has therefore determined the minimum random alcohol testing rate for covered service employees will remain at 10 percent for Calendar Year 2024.

Random Testing Rates for MOW Employees

The rail industry's random drug testing positive rate for MOW employees remained below 1.0 percent for 2021 and 2022. The Administrator has therefore determined the minimum annual random drug testing rate for MOW employees will remain at 25 percent for calendar year 2024. The industry-wide random alcohol testing violation rate for MOW employees remained below 0.5 percent for 2021 and 2022. The Administrator has therefore determined the minimum random alcohol testing rate for MOW employees will remain at 10 percent for Calendar Year 2024.

Random Testing Rates for MECH Employees

FRA does not have the two full years of MIS data required to adjust the random testing rates for MECH employees, because those employees became subject to FRA random drug and alcohol testing in March 2022. See 87 FR 5719, February 2, 2022. The Administrator has therefore determined that the minimum random testing rates for MECH employees will remain at 50 percent for drugs and 25 percent for alcohol for Calendar Year 2024.

Issued in Washington, DC.
Amitabha Bose,
Administrator.

[FR Doc. 2023-28264 Filed 12-21-23; 8:45 am]

BILLING CODE 4910-06-P